DEPARTMENT OF COMMERCE

Foreign-Trade Zones Board

[Order No. 1613]

Designation of New Grantee Foreign-Trade Zone 57, Charlotte, North Carolina Area Resolution and Order

Pursuant to its authority under the Foreign-Trade Zones Act of June 18, 1934, as amended (19 U.S.C. 81a-81u), and the Foreign-Trade Zones Board Regulations (15 CFR Part 400), the Foreign-Trade Zones Board (the Board) adopts the following Order:

The Foreign-Trade Zones (FTZ) Board (the Board) has considered the application (filed 07/23/2008) submitted by the North Carolina Department of Commerce (NCDOC), grantee of FTZ 57, Charlotte, North Carolina, requesting reissuance of the grant of authority for said zone to the Charlotte Regional Partnership, Inc. (CRP), a non-profit organization, which has accepted such reissuance subject to approval by the FTZ Board. Upon review, the Board finds that the requirements of the FTZ Act and the Board's regulations are satisfied, and that the proposal is in the public interest.

Therefore, the Board approves the application and recognizes the Charlotte Regional Partnership, Inc. (CRP) as the new grantee of Foreign Trade Zone 57, subject to the FTZ Act and the Board's regulations, including Section 400.28.

Signed at Washington, DC, this 24th day of April 2009.
Ronald K. Lorentzen,
Acting Assistant Secretary of Commerce for Import Administration Alternate Chairman, Foreign-Trade Zones Board.

[FR Doc. E9-10800 Filed 5-7-09; 8:45 am]

BILLING CODE 3510-DS-P